DEPARTMENT OF TRANSPORTATION

Pipeline and Hazardous Materials Safety Administration

Office of Hazardous Materials Safety; Notice of Application for Special Permits

AGENCY: Pipeline and Hazardous Materials Safety Administration (PHMSA), DOT.

ACTION: List of applications for special permits

SUMMARY: In accordance with the procedures governing the application for, and the processing of, special permits from the Department of Transportation's Hazardous Material Regulations (49 CFR part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 19, 2010.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for special permit is published in accordance with Part 107 of the Federal hazardous materials transportation law (49 U.S.C. 5117(b); 49 CFR 1.53(b)).

Issued in Washington, DC, on March 11, 2010.
Delmer F. Billings,
Director, Office of Hazardous Materials, Special Permits and Approvals.

New Special Permits
Application No. | Docket No. | Applicant | Regulation(s) affected | Nature of special permits thereof
14977-N |  | Air Products and Chemicals, Inc. Allentown, PA | 49 CFR 173.301(f) | To authorize the transportation in commerce of certain DOT Specification 3T cylinders containing Silane without pressure relief devices by motor vehicle and cargo vessel. (modes 1, 3).
14978-N |  | Air Products and Chemicals, Inc. Allentown, PA | 49 CFR 173.181 | To authorize the transportation in commerce of pyrophoric liquids in inner metal containers (bubblers) with openings greater than 25mm (1 inch) which are engineered to specific electronics applications that require a larger opening. (modes 1, 3).
149979-N |  | M & N Aviation, Carolina Inc | 49 CFR 172.101 Column (9B) | To authorize the air transportation in commerce of certain explosives which are forbidden or exceed quantity limits for shipment by cargo-only aircraft. (mode 4).
14980-N |  | Fisk Tank Carrier, Inc. Columbus, WI | 49 CFR 173.315 (j)(4) | To authorize the one-way transportation in commerce of certain non-DOT specification storage tanks containing propane. (mode 1).
14981-N |  | Eclipse Aerospace, Inc. (EAI) Albuquerque, NM | 49 CFR 173.309(b) | To authorize the manufacture, marking, sale and use of non-DOT specification cylinders for use as fire extinguishers. (modes 1, 2, 3, 4, 5).

[FR Doc. 2010-5898 Filed 3-18-10; 8:45 am]

BILLING CODE 4909-60-M